DEPARTMENT OF LABOR

Agency Information Collection Activities; Submission for OMB Review; Comment Request; Labor Organization and Auxiliary Reports

AGENCY: Office of Labor-Management Standards, Department of Labor.

ACTION: Notice of information collection; request for comment.

SUMMARY: The Department of Labor (DOL) is submitting this Office of Labor-Management Standards, Department of Labor (OLMS)—sponsored information collection request (ICR) to the Office of Management and Budget (OMB) for review and approval in accordance with the Paperwork Reduction Act of 1995 (PRA). Public comments on the ICR are invited.

DATES: The OMB will consider all written comments that the agency receives on or before January 13, 2025.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Nora Hernandez by telephone at 202-693-8633, or by email at DOL_PRA_PUBLIC@dol.gov.

SUPPLEMENTARY INFORMATION: The Secretary of Labor administers and enforces provisions of the Labor-Management Reporting and Disclosure Act of 1959, as amended, Public Law 86-257, 73 Stat. 519-546, codified at 29 U.S.C. 401-531. The LMRDA, in part, establishes labor-management transparency through reporting and disclosure requirements for labor organizations and officials, employers, labor relations consultants, and surety companies. Section 203(a) of the LMRDA imposes reporting requirements on employers who enter into specified financial transactions or arrangements with a labor union, union official, employee, or labor relations consultant. 29 U.S.C. 433(a). Section 203(b) of the LMRDA additionally requires public disclosure of certain agreements or arrangements between any person, including labor relations consultants and other individuals and organizations, to undertake certain activities concerning employees or labor organizations. 29 U.S.C. 433(b). Under LMRDA section 208, the Secretary of Labor is authorized to issue, amend, and rescind rules and regulations prescribing the form and publication of required reports, as well as “such other reasonable rules and regulations . . . as [s]he may find necessary to prevent the circumvention or evasion of such reporting requirements.” 29 U.S.C. 438. The Secretary published the Form LM-10 “Employer Report” for employers, and the Form LM-20 “Agreement and Activities Report” and Form LM-21 “Receipts and Disbursements Report” for labor relations consultants.

The Department seeks to amend the Form LM-10, Form LM-20, and Form LM-21 to supplement the identifying information OLMS already collects from employers and consultants by requiring an Employer Identification Number (EIN). An EIN uniquely identifies each employer or consultant, and its inclusion on the Form LM-10, Form LM-20, and Form LM-21 would avoid confusion and allow the public and employees to confirm the identity of filers and consultants more easily. This revision will also improve the efficiency of OLMS operations, as OLMS will be able to use the unique EIN number to differentiate existing filers from new filers, and crossmatch employer and consultant reports more effectively. If a consultant does not have an EIN, OLMS would require that the filing employer or other consultant identify the consultant by providing the consultant's LM file number, if it already had obtained one.

The Department also seeks to amend the Form LM-20 to differentiate requirements for primary consultants and sub-consultants to the underlying employer-consultant agreement. These revisions to the Form LM-20 would require primary consultants to disclose whether any individuals through whom an employer-consultant agreement was performed is a sub-consultant and to provide the name and EIN of that sub-consultant in Item 11.d, as well as require sub-consultants to provide the name, EIN, and mailing address of the primary consultant the sub-consultant entered into agreement within Item 8. These revisions would help avoid confusion and allow the public and employees to confirm the identity of filers and consultants more easily, as well as provide greater efficiency to OLMS for cross-matching employer and consultant reports.

The Department is seeking comment on the collection of the EIN on Forms LM-10, LM-20, and LM-21, as well as revisions to Form LM-20 to differentiate between primary consultants and sub-consultants to the employer-consultant agreement, which would additionally require the disclosure of EIN for those sub-consultants. The Department is seeking comments on the necessity of these revisions for the performance of OLMS, the accuracy of the estimated reporting burden, and any methods by which OLMS could continue to minimize the burden of collecting information.

The Department also seeks to require each filer to provide the email addresses of the corresponding parties to the agreement that triggered the reporting requirement (underlying agreement). The email addresses will not appear on the submitted forms or otherwise be publicly available, but OLMS will seek to use the email addresses to ensure compliance. The Department also proposes a technical revision to the Form LM-1 instructions, Item 9, to match the corresponding item on the form.

The Department is also seeking comments on handling instances when a consultant or employer does not provide or does not have an EIN, or a file number given by OLMS. For additional substantive information about this ICR, see the related notice published in the Federal Register on October 3, 2024 (89 FR 80605).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: Department of Labor, Office of Labor-Management Standards.

Title of Collection: Labor Organization and Auxiliary Reports

OMB Control Number: 1245-0003.

Affected Public: Private Sector—Business or other for-profits and not-for-profit institutions

Total Estimated Number of Annual Respondents: 32,791.

Total Estimated Number of Responses: 35,067.

Total Estimated Annual Time Burden: 4,644,740 hours.

Total Estimated Annual Other Costs Burden: $0.

(Authority: 44 U.S.C. 3507(a)(1)(D))

Nora Hernandez,
PRA Department Clearance Officer.

[FR Doc. 2024-29218 Filed 12-11-24; 8:45 am]

BILLING CODE 4510-86-P